FEDERAL COMMUNICATIONS COMMISSION

47 CFR Part 54

[WC Docket No. 10-90; DA 13-309]

Connect America Fund; A National Broadband Plan for Our Future; Establishing Just and Reasonable Rates for Local Exchange Carriers; High-Cost Universal Service Support

AGENCY: Federal Communications Commission.

ACTION: Final rule; technical amendment.

SUMMARY: The Federal Communications Commission published in the Federal Register of May 24, 2012, a document reconsidering and clarifying certain aspects of the USF/ICC Transformation Order in response to various petitions for reconsideration and/or clarification. In that document, a filing deadline was inadvertently omitted.

DATES: Effective May 21, 2013.

FOR FURTHER INFORMATION CONTACT: Alexander Minard, Wireline Competition Bureau, (202) 418-7400 or TTY: (202) 418-0484.

SUPPLEMENTARY INFORMATION: This is a summary of the FCC's Erratum, DA 13-309, released on March 1, 2013. The Federal Communications Commission published a document in the Federal Register of May 24, 2012, in which the filing deadline for § 54.313(a)(9) was inadvertently omitted. This technical amendment revises the Appendix to reflect the correct filing deadline of July 1, 2013.

List of Subjects in 47 CFR Part 54

Communications common carriers, reporting and record keeping requirements, telecommunications, telephone.

Accordingly, 47 CFR part 54 is corrected by making the following technical amendment:

PART 54—UNIVERSAL SERVICE

1. The authority citation for part 54 continues to read as follows:

Authority: 47 U.S.C. 151, 154(i), 201, 205, 214, 219, 220, 254, 303(r), 403, and 1302 unless otherwise noted.

Subpart D—Universal Service Support for High Cost Areas

2. In § 54.313, revise paragraph (a)(9) introductory text to read as follows:

§ 54.313 Annual reporting requirements for high-cost support.

(a) * * *

(9) Beginning July 1, 2013. To the extent the recipient serves Tribal lands, documents or information demonstrating that the ETC had discussions with Tribal governments that, at a minimum, included:

* * * * *

Federal Comunications Commission.
Marlene H. Dortch,
Secretary.

[FR Doc. 2013-12092 Filed 5-20-13; 8:45 am]

BILLING CODE 6712-01-P